SURFACE TRANSPORTATION BOARD

[Docket No. FD 36835]

OPSEU Pension Plan Trust Fund, Jaguar Transport Holdings, LLC, and Jaguar Rail Holdings, LLC—Continuance in Control Exemption—Kansas City West Bottoms Railroad, LLC

OPSEU Pension Plan Trust Fund (OPTrust), Jaguar Transport Holdings, LLC (JTH), and Jaguar Rail Holdings, LLC (JRH, and collectively with OPTrust and JTH, Jaguar), each a noncarrier, have filed a verified notice of exemption under 49 CFR 1180.2(d)(2) to continue in control of Kansas City West Bottoms Railroad, LLC (KCWB), upon KCWB's becoming a Class III rail carrier. The verified notice states that KCWB is a directly controlled holding of JRH, which is directly controlled by JTH, which is indirectly controlled by OPTrust. Jaguar collectively controls ten Class III rail carriers.¹

¹ Those carriers are, and the states in which they operate, are: (1) Southwestern Railroad, Inc.—New Mexico, Texas, and Oklahoma; (2) Texas & Eastern Railroad, LLC—Texas; (3) Wyoming and Colorado Railroad, Inc. (which also does business under the name Oregon Eastern Railroad)—Oregon; (4) Missouri Eastern Railroad, LLC—Missouri; (5) Charlotte Western Railroad, LLC—North Carolina; (6) Kinston Railroad, LLC—North Carolina; (7) Waterloo Railroad, LLC—Iowa; (8) Cimarron Valley Railroad, L.C.—Kansas, Colorado, and Oklahoma; (9) Washington Eastern Railroad, LLC—Washington; and (10) West Memphis Base Railroad, L.L.C.—Arkansas.

This transaction is related to a concurrently filed verified notice of exemption in Kansas City West Bottoms Railroad, LLC—Operation Exemption with Interchange Commitment—Union Pacific Railroad Company, Docket No. FD 36834, in which KCWB seeks Board approval to lease and operate approximately 1.25 miles of rail line owned by Union Pacific Railroad Company (UP) in Kansas City, Jackson County, Mo., and Kansas City, Wyandotte County, Kan., replacing the line's current operator, UP.

Jaguar represents that its control of KCWB upon KCWB's becoming a rail common carrier is not a transaction where: (1) KCWB would connect with any railroads in Jaguar's corporate family; (2) Jaguar plans through the continuance of control of KCWB (once KCWB becomes a common carrier) to connect KCWB to any of the railroads in Jaguar's corporate family, or to connect any of those railroads to one another; and (3) a Class I carrier is involved. Therefore, the transaction is exempt from the prior approval requirements of 49 U.S.C. 11323. See 49 CFR 1180.2(d)(2).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Accordingly, because this transaction involves Class III rail carriers only, the Board may not impose labor protective conditions here.

The earliest this transaction may be consummated is March 5, 2025, the effective date of the exemption. If the verified notice contains false or misleading information, the exemption is void ab initio. Petitions to revoke the exemption under 49 U.S.C. 10502(g) may be filed at any time. The filing of a petition to revoke will not automatically stay the effectiveness of the exemption. Petitions for stay must be filed by February 26, 2025 (at least seven days before the exemption becomes effective).

All pleadings, referring to Docket No. FD 36835, must be filed with the Surface Transportation Board either via e-filing on the Board's website or in writing addressed to 395 E Street SW, Washington, DC 20423-0001. In addition, a copy of each pleading must be served on Jaguar's representative, Robert A. Wimbish, Fletcher & Sippel LLC, 29 North Wacker Drive, Suite 800, Chicago, IL 60606-3208.

According to Jaguar, this action is excluded from environmental review under 49 CFR 1105.6(c) and from historic preservation reporting requirements under 49 CFR 1105.8(b).

Board decisions and notices are available at www.stb.gov.

Decided: February 13, 2025.
By the Board, Mai T. Dinh, Director, Office of Proceedings.
Regena Smith-Bernard
Clearance Clerk.

[FR Doc. 2025-02790 Filed 2-18-25; 8:45 am]

BILLING CODE 4915-01-P